DEPARTMENT OF TRANSPORTATION

Federal Motor Carrier Safety Administration

[Docket No. FMCSA-2024-0178]

Agency Information Collection Activities; Renewal of an Approved Information Collection: Road Test Requirement

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval and invites public comment. FMCSA requests approval to renew the ICR titled “Road Test Requirement.” This ICR estimates the information burden incurred by motor carriers associated with the road test requirements in two circumstances. The first is when the motor carrier hires a new driver. The second is when the road test is required for individuals physically qualified under the Agency's alternative vision standard for the first time. In each circumstance, motor carriers are required to rate the performance of the driver during the test on a road test form provided by the motor carrier. If the road test is successfully completed, the motor carrier completes a certificate of driver's road test and provides a copy to the driver. The motor carrier retains the original signed road test form and the original, or a copy, of the signed certificate in the driver qualification file.

DATES: Comments on this notice must be received on or before November 12, 2024.

ADDRESSES: You may submit comments identified by Docket Number FMCSA-2024-0178 using any of the following methods:

• Federal eRulemaking Portal: https://www.regulations.gov. Follow the online instructions for submitting comments.

• Mail: Dockets Operations; U.S. Department of Transportation, 1200 New Jersey Avenue SE, West Building, Ground Floor, Washington, DC 20590-0001.

• Hand Delivery or Courier: Dockets Operations, U.S. Department of Transportation, 1200 New Jersey Avenue SE, West Building, Ground Floor, Washington, DC, 20590-0001 between 9 a.m. and 5 p.m. ET, Monday through Friday, except Federal holidays. To be sure someone is there to help you, please call (202) 366-9317 or (202) 366-9826 before visiting Dockets Operations.

• Fax: 1-202-493-2251.

To avoid duplication, please use only one of these four methods. See the “Public Participation and Request for Comments” portion of the SUPPLEMENTARY INFORMATION section for instructions on submitting comments.

FOR FURTHER INFORMATION CONTACT: Ms. Pearlie Robinson, Driver and Carrier Operations Division, DOT, FMCSA, 1200 New Jersey Avenue SE, Washington, DC 20590-0001; 202-366-4225; pearlie.robinson@dot.gov.

SUPPLEMENTARY INFORMATION:

Instructions

All submissions must include the Agency name and docket number. For detailed instructions on submitting comments, see the Public Participation heading below. Note that all comments received will be posted without change to https://www.regulations.gov, including any personal information provided. Please see the Privacy Act heading below.

Public Participation and Request for Comments

If you submit a comment, please include the docket number for this notice (FMCSA-2024-0178), indicate the specific section of this document to which the comment applies and provide a reason for suggestions or recommendations. You may submit your comments and material online or by fax, mail, or hand delivery, but please use only one of these means. FMCSA recommends that you include your name and a mailing address, an email address, or a phone number in the body of your document so the Agency can contact you if it has questions regarding your submission.

To submit your comment online, go to https://www.regulations.gov/docket/FMCSA-2024-0178/document, click on this notice, click “Comment,” and type your comment into the text box on the following screen.

If you submit your comments by mail or hand delivery, submit them in an unbound format, no larger than 8½ by 11 inches, suitable for copying and electronic filing.

Comments received after the comment closing date will be included in the docket and will be considered to the extent practicable.

Privacy Act

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Background

This ICR supports the DOT strategic goal of safety. Public interest in highway safety dictates that employers hire drivers who can safely operate CMVs amid the various physical and mental demands of truck and bus driving. Subject to some exceptions, § 391.31 requires a motor carrier to conduct a road test when the motor carrier hires a new driver. The motor carrier is required to rate the performance of the driver during the test on a road test form provided by the motor carrier. If the road test is successfully completed, the motor carrier completes a certificate of driver's road test and provides a copy to the driver. The motor carrier retains the original signed road test form and the original, or a copy, of the signed certificate in the driver qualification file. Motor carriers may maintain the required road test form and certificate electronically or via paper copy. The information collected by the motor carrier is needed to document the motor carrier conducted the road test as required and determined the driver can operate a CMV safely. The information also assists Federal and State safety investigators in determining that motor carriers fulfilled their regulatory requirements when deciding who may drive CMVs on their behalf and in assessing the qualifications of drivers.

The ICR estimates the information-collection burden incurred by motor carriers associated with the § 391.31 road test in two circumstances. The first is when the road test is required by § 391.31 (IC-1); the second is when the road test is required as part of the alternative vision standard in § 391.44 (IC-2). However, individuals are excepted from the road test requirement if they have 3 years of intrastate or specific excepted interstate CMV driving experience with the vision deficiency, hold a valid Federal vision exemption, or are medically certified under § 391.64(b). Most of the motor carrier burden hours and cost for the information collection relates to IC-1.

Renewal of This Information Collection

The current burden estimate associated with this ICR, approved by OMB on March 28, 2022, is 273,888 hours. The expiration date of the current ICR is March 31, 2025. Through this ICR renewal, the Agency requests an increase in the burden hours from 273,888 hours to 584,408 hours. The increase is the result of an increase in the estimated driver population as well as an increase in the expected industry growth rate for drivers from 2022 to 2032.

Title: Road Test Requirements.

OMB Control Number: 2126-0072.

Type of Request: Renewal of a currently approved collection.

Respondents: Motor carriers.

Estimated Number of Respondents: 3,187,668.

Estimated Time per Response: 33 minutes.

Expiration Date: March 31, 2025.

Frequency of Response: On occasion.

Estimated Total Annual Burden: 584,408.

Definitions: N/A.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this ICR.

Issued under the authority of 49 CFR 1.87.
Thomas P. Keane,
Associate Administrator, Office of Research and Registration.

[FR Doc. 2024-20806 Filed 9-12-24; 8:45 am]

BILLING CODE 4910-EX-P